ENVIRONMENTAL PROTECTION AGENCY

[FRL-7978-3]

National and Governmental Advisory Committees to the U.S. Representative to the Commission for Environmental Cooperation

AGENCY: Environmental Protection Agency (EPA).

ACTION: Notice of meeting.

SUMMARY: Under the Federal Advisory Committee Act, Public Law 92463, EPA gives notice of a meeting of the National Advisory Committee (NAC) and Governmental Advisory Committee (GAC) to the U.S. Representative to the North American Commission for Environmental Cooperation (CEC). The National and Governmental Advisory Committees advise the EPA Administrator in his capacity as the U.S. Representative to the CEC Council. The Committees are authorized under Articles 17 and 18 of the North American Agreement on Environmental Cooperation (NAAEC), North American Free Trade Agreement Implementation Act, Public Law 103-182, and as directed by Executive Order 12915, entitled “Federal Implementation of the North American Agreement on Environmental Cooperation.” The Committees are responsible for providing advice to the U.S. Representative on a wide range of strategic, scientific, technological, regulatory, and economic issues related to implementation and further elaboration of the NAAEC. The NAC is composed of 12 members representing academia, environmental non-governmental organizations, and private industry. The GAC consists of 12 members representing state, local, and tribal governments. The purpose of the meeting is to discuss policy issues associated with the CEC's Draft 2006 Operational Plan and Budget. A copy of the agenda for the meeting will be posted at http://www.epa.gov/ocem/nacgac-page.htm.

DATES: The National and Governmental Advisory Committees will hold a two day open meeting on Thursday, October 20, from 9 a.m. to 5:30 p.m. and Friday, October 21, from 8:30 a.m. to 1:30 p.m.

ADDRESSES: The meeting will be held at the Embassy Suites Hotel, 601 Pacific Highway, San Diego, California 92101. The meeting is open to the public, with limited seating on a first-come, first-served basis.

FOR FURTHER INFORMATION CONTACT: Oscar Carrillo, Designated Federal Officer, carrillo.oscar@epa.gov, 202-233-0072, U.S. EPA, Office of Cooperative Environmental Management (1601E), 1200 Pennsylvania Avenue NW., Washington, DC 20460.

SUPPLEMENTARY INFORMATION: Requests to make oral comments or provide written comments to the Committees should be sent to Oscar Carrillo, Designated Federal Officer, at the contact information above.

Meeting Access: For information on access or services for individuals with disabilities, please contact Oscar Carrillo at 202-233-0072 or carrillo.oscar@epa.gov. To request accommodation of a disability, please contact Oscar Carrillo, preferably at least 10 days prior to the meeting, to give EPA as much time as possible to process your request.

Dated: September 20, 2005.
Oscar Carrillo,
Designated Federal Officer.

[FR Doc. 05-19715 Filed 9-30-05; 8:45 am]

BILLING CODE 6560-50-P